DEPARTMENT OF ENERGY

Federal Energy Regulatory Commission

[Project No. 12555-004-PA]

Mahoning Creek Hydroelectric Company, LLC; Notice of Availability of Environmental Assessment

March 23, 2010.

In accordance with the National Environmental Policy Act of 1969 and the Federal Energy Regulatory Commission (Commission) regulations, 18 CFR Part 380 (Order No. 486, 52 F.R. 47879), the Office of Energy Projects has reviewed the application for an original license for the Mahoning Creek Hydroelectric Project, to be located on Mahoning Creek in Armstrong County, Pennsylvania, and prepared an environmental assessment (EA). In the EA, Commission staff analyze the potential environmental effects of licensing the project and conclude that issuing a license for the project, with appropriate environmental measures, would not constitute a major federal action significantly affecting the quality of the human environment.

Because the Commission's headquarters was closed from February 8 to 11, 2010, due to severe weather, staff was delayed in preparing the EA. Therefore, we are waiving § 5.22 of the Commission's regulations which updated the schedule for EA issuance to March 1, 2010, as the target date for EA issuance.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

Any comments should be filed within 30 days from the issuance date of this notice, and should be addressed to the Secretary, Federal Energy Regulatory Commission, 888 First Street, NE., Room 1-A, Washington, DC 20426. Please affix “Mahoning Creek Project No. 12555-004” to all comments. Comments may be filed electronically via Internet in lieu of paper.

The Commission strongly encourages electronic filings. See 18 CFR 385.2001(a)(1)(iii) and the instructions on the Commission's Web site under the “eFiling” link. For further information, contact Kristen Murphy at (202) 502-6236.

Kimberly D. Bose,
Secretary.

[FR Doc. 2010-6981 Filed 3-29-10; 8:45 am]

BILLING CODE 6717-01-P